DEPARTMENT OF THE INTERIOR

National Park Service

60-Day Notice of Intent To Renew Request for Clearance of Information Collection, Backcountry Use Permit, Opportunity for Public Comment

AGENCY: National Park Service, Interior.

ACTION: Notice.

SUMMARY: In accordance with the Paperwork Reduction Act of 1995 (Public Law 104-13, 44 U.S.C. 3507) the National Park Service (NPS) invites public comment on a request for renewal of the information collection requirements of NPS Standard Form 10-404, Backcountry Use Permit. The Permit was initially authorized under OMB Control No. 1024-0022. The Backcountry Use Permit is the primary form used to provide access into NPS backcountry areas including those areas that require a reservation to enter or where use limits are imposed in accordance with other NPS regulations. Such permitting enhances hazard warnings, search and rescue efforts and resource protection.

DATES: Public comments will be accepted until November 17, 2000.

ADDRESSES: Send comments to Kym Hall, National Park Service, Ranger Activities Division, 1849 C Street NW, Room 7413, Washington, D.C. 20240. Fax: (202) 208-6756. All responses to this notice will be summarized and included in the request for Office of Management and Budget (OMB) approval.

FOR FURTHER INFORMATION: Or to receive a copy, free of charge, of the proposed information collection document (Backcountry Use Permit) contact Kym Hall, Regulations Program Manager, at (202) 208-4206 or email Kym_Hall@nps.gov.

SUPPLEMENTARY INFORMATION: In 1976, the NPS initiated a backcountry registration system in accordance with the regulations found at 36 CFR 1.5, 1.6 and 2.10. The objective of the backcountry use permit system is to provide campers access to backcountry areas of national parks with continuing opportunities for solitude, while enhancing resource protection and providing a means of disseminating public safety messages regarding backcountry travel.

NPS backcountry program managers, by designating access routes and overnight camping locations, can redistribute campers in response to user impact, high fire danger, flood or wind hazard, bear activity or other situations that may temporarily close a portion of the backcountry. The NPS may also use the permit system as a means of ensuring that each backcountry user receives up-to-date information on backcountry sanitation procedures, food storage, wildlife activity, trail conditions and weather projections so that concerns for visitor safety are met.

The Backcountry Use Permit is an extension of the NPS statutory authority responsibility to protect the park areas it administers and to manage the public use thereof (16 U.S.C., Sections 1 and 3). NPS regulations codified in 36 CFR Parts 1 through 7, 12, and 13, are designed to implement statutory mandates that provide for resource protection and public enjoyment.

Estimated annual number of respondents: 295,339.

Estimated annual number of responses: 295,339.

Estimated average burden hours per response: 5 minutes.

Estimated frequency of response: The collection information must be provided each time a visitor or group wants to enter into the park's backcountry overnight. Frequency of response will depend on number of visits to a park annually.

Estimated annual reporting burden: 24,612 hours per year.

The NPS specifically invites public comments as to:

a. Whether the collection of information is necessary for the proper performance of the functions of the Service, including whether the information will have practical utility;

b. The accuracy of the Service's estimate of the burden of the collection of information, including the validity of the methodology and assumptions used;

c. The quality, utility, and clarity of the information to be collected; and

d. How to minimize the burden of the collection of information on those who are to respond, including the use of appropriate automated, electronic, mechanical, or other forms of information technology.

Dated: September 8, 2000.
Betsey Chittenden,
Information Collection Clearance Officer, National Park Service.

[FR Doc. 00-23875 Filed 9-15-00; 8:45 am]

BILLING CODE 4310-70-P